DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 24, 2014. Address written comments to Statutory Import Programs Staff, Room 3720, U.S. Department of Commerce, Washington, DC 20230. Applications may be examined between 8:30 a.m. and 5:00 p.m. at the U.S. Department of Commerce in Room 3720.

Docket Number: 13-050. Applicant: The University of Memphis, 275 Administration Building, 3720 Alumni Drive, Memphis, TN 38152-3370. Instrument: Electron Microscope. Manufacturer: FEI Company, Czech Republic. Intended Use: The instrument will be used for multiple objectives including understanding the interplay between structural, magnetic and electromagnetic properties of synthesized magnetic nanostructures, and promoting and improving the ability of implants to integrate into bone and to deliver locally therapeutic agents such as antimicrobials and/or growth factors. The experiments to be conducted will include observations of the nanometer scale morphology of biocompatible/biodegradable hydrogel systems, the determination of how various therapeutic drugs affect the microscopic cellular architecture, determining the limit of feature size that can be fabricated using E-beam lithography from sensor materials, and determining the spatial limits in simultaneous multi-analyte electrochemical sensing. Justification for Duty-Free Entry: There are no instruments of the same general category manufactured in the United States. Application accepted by Commissioner of Customs: December 12, 2013.

Docket Number: 13-051. Applicant: The Scripps Research Institute, 10550 North Torrey Pines Road, M/S BCC-206, La Jolla, CA 92037. Instrument: Transmission Electron Microscope—Titan Krios. Manufacturer: FEI Company, the Netherlands. Intended Use: The instrument will be used to gain significant insight into the manner in which macromolecular assemblies perform crucial life processes by determining the three-dimensional structure of these macromolecular assemblies. The instrument will be used to determine the manner in which biological assemblies function and the mechanisms through which they interact with other cellular components. Justification for Duty-Free Entry: There are no instruments of the same general category manufactured in the United States. Application accepted by Commissioner of Customs: December 16, 2013.

Dated: January 28, 2014.
Gregory W. Campbell,
Director of Subsidies Enforcement, Enforcement and Compliance.

[FR Doc. 2014-02291 Filed 2-3-14; 8:45 am]

BILLING CODE 3510-DS-P